DEPARTMENT OF THE INTERIOR

Fish and Wildlife Service

Receipt of an Application and Availability of an Environmental Assessment for an Incidental Take Permit for a Commercial Wind-Energy Project in Guayanilla, PR

AGENCY: Fish and Wildlife Service, Interior.

ACTION: Notice.

SUMMARY: WindMar RE (Applicant) requests an incidental take permit (ITP) pursuant to section 10(a)(1)(B) of the Endangered Species Act of 1973 (U.S.C. 1531 et seq.), as amended (Act). The Applicant anticipates taking Puerto Rican nightjar (Caprimulgus noctitherus) (nightjar), brown pelican (Pelecanus occidentalis occidentalis), and roseate tern (Sterna dougallii), incidental to the construction and operation, over a 40-year term of a commercial wind-energy project in Punta Verraco, Cerro Toro, and Punta Ventana in Guayanilla, Puerto Rico (Project).

The Applicant's Habitat Conservation Plan (HCP) describes the mitigation and minimization measures proposed to address the effects of the Project on nightjars, brown pelicans, and roseate terns. These measures are described further in the SUPPLEMENTARY INFORMATION section below. The Service announces the availability of the HCP and our Environmental Assessment (EA) for the incidental take permit application. Copies of the HCP and EA may be obtained by making a request to the Regional Office (see ADDRESSES). Requests must be in writing to be processed. This notice is provided pursuant to section 10 of the Endangered Species Act and National Environmental Policy Act regulations (40 CFR 1506.6).

DATES: Written comments on the permit application, EA, and HCP should be sent to the Service's Regional Office (see ADDRESSES) and should be received on or before March 7, 2006.

ADDRESSES: Persons wishing to review the application, HCP, and EA may obtain copies by writing the Service's Southeast Regional Office, Atlanta, Georgia. Documents will also be available for public inspection by appointment during normal business hours at the Regional Office, 1875 Century Boulevard, Suite 200, Atlanta, Georgia 30345 (Attn: Endangered Species Permits), or Caribbean Field Office, U.S. Fish and Wildlife Service, Road 301 Km. 5.1, P.O. Box 491, Boquerón, Puerto Rico 00622. Written data or comments concerning the application, supporting documentation, EA, or HCP should be submitted to the Regional Office. Requests for the documentation must be in writing to be processed. Comments must be submitted in writing to be adequately considered in the Service's decision-making process.

FOR FURTHER INFORMATION CONTACT: Mr. David Dell, Regional Permit Coordinator, (see ADDRESSES above), telephone: 404/679-7313; or Ms. Marelisa Rivera, Fish and Wildlife Biologist, Boquerón Field Office, (see ADDRESSES above), telephone: 787/851-7297, extension 231.

SUPPLEMENTARY INFORMATION: If you wish to comment, you may submit comments by any one of several methods. Please reference permit number TE104073-0 in such comments. You may mail comments to the Service's Regional Office (see ADDRESSES). You may also comment via the internet to david_dell@fws.gov. Please submit comments over the internet as an ASCII file avoiding the use of special characters and any form of encryption. Please also include your name and return address in your internet message. If you do not receive a confirmation from the Service that we have received your Internet message, contact us directly at either of the telephone numbers listed below (see FOR FURTHER INFORMATION CONTACT). Finally, you may hand deliver comments to either of the Service offices listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The endangered nightjar is an endemic bird of Puerto Rico belonging to the family Caprimulgidae. This insectivorous and nocturnal bird nests from late February through early July, but the peak period is from April to June. The nightjar does not construct a nest, but rather the eggs are laid directly on leaf litter under vegetation having a canopy 4 to 6 m (13 to 20 feet) in height. The species is presently found in the dry limestone forests of the southwestern coast of Puerto Rico, and in the lower cordillera forest in Susúa area. The species' current distribution includes the Peñones de Melones area in Cabo Rojo, the Sierra Bermeja forested hills in Cabo Rojo-Lajas area, the Guánica—Yauco area including the Guánica Commonwealth Forest, the Guayanilla—Peñuelas hills, Ponce, and Susúa-Maricao area including the Susúa Commonwealth Forest. Approximately 712 singing male nightjars have been estimated in 9,839 ha (24,598 acres) in Susúa, Guánica and Guayanilla. The species is threatened by habitat modification and destruction for urban, industrial, and tourism development, and by predation by exotic species such as mongoose (Herpestes auropunctatus) and cats (Felis catus).

The Applicant conducted an intensive study of the Puerto Rican nightjar during the 2003 and 2004 breeding seasons and recorded approximately 33 singing male nightjars in 2003, and approximately 42 singing male nightjars in 2004, both studies conducted on 250 hectares (625 acres) of dry forest.

The brown pelican is found along North American coasts from California through Mexico, around the Gulf of Mexico, and through North Carolina, as well as the West Indies, many Caribbean islands, and Guyana and Venezuela in South America. It is considered endangered throughout its range, except on the U.S. Atlantic coast and the Gulf coast of Florida and Alabama.

Brown pelicans nest in colonies, mostly on small coastal islands. In Puerto Rico, brown pelicans have nested in Añasco, Cayo Frío (Lajas), Cayo Don Luis (Guánica), Cayo Conejo (Vieques), Montalva Bay (Guánica-Parguera), Aguadilla, Guanajibo (Mayagüez), Cayo Ratones (Cabo Rojo), Cayos Fríos (Ponce), and Cayo Morrillito (Ponce). In the U.S. Virgin Islands, brown pelicans nest in Dutch Cap Cay (St. Thomas), Congo Cay (St. John), Mary Point (St. John), Whistling Key (St. John), Buck Island (St. Croix), and Green Cay (St. Croix). In the U.S. Caribbean, the species is threatened by low food abundance; die-offs; poaching of eggs, young, and adults; human disturbance of nesting colonies; entanglement in fishing gear; and loss or degradation of coastal forests.

The Applicant conducted pelican censuses at Guayanilla Bay, and a study on flight patterns of pelicans through the project site. Based on the study's results, brown pelicans use the wind to move as effortlessly as possible near the project site. The pelican's predominant flight pattern is along the immediate coast, where there are updrafts. To enter Guayanilla Bay, where they roost and feed, pelicans use three principal routes: (1) Around the tip of the peninsula (2.2 birds/hr), (2) gliding “downhill” out of the updraft elevator at Cerro Toro (1.4 birds/hr), and (3) at any point across the main part of the peninsula (0.2 birds/hr, but at 0.06 birds/hr at rotor height). Departing Guayanilla Bay for the Caribbean, where they also feed, most pelicans go around the peninsula tip (3.9 birds/hr), but some birds cross the main part of the peninsula (0.1 birds/hr, 0.08 birds/hr at rotor height) and some use the Cerro Toro crossing (0.1 birds/hr). Based on observations at Cerro Toro and Punta Verraco, observers have estimated that it is likely that between 12 and 20 pelicans regularly fly and feed around the project site. Surveys of Guayanilla Bay and adjacent areas have recorded as many as 100 individuals, though half this number or less at the study period.

The roseate tern is a migratory species that is listed as threatened in the Caribbean. This species is distributed throughout the Caribbean, with the largest populations occurring in the Lesser Antilles. In general, roseate terns in the Caribbean begin egg laying in May, and have downy chicks in June which fledge in July. Roseate terns breed primarily on small offshore islands, rocks, cays, and islets. Roseate terns have been reported nesting near vegetation or jagged rock, on open sandy beaches, close to waterline on narrow ledges of emerging rocks, or among coral rubble. Total population numbers are not known, but between 3,000 and 6,000 breeding pairs have been estimated for the Caribbean region. It has been suggested that egging, human disturbance, predation, and netting of adults in Guyana, South America, are the main factors affecting the Caribbean roseate tern. The Applicant did not record roseate terns during its flight-use study or in recent years. We have recorded the nesting of this species (four times in fourteen years) on Cayo Guayanilla, a small coral islet 600 m (2,000 feet) south of the tip of Punta Verraco peninsula.

The Project would erect twenty-five 1.65 megawatt (MW) wind turbines on Punta Verraco, Cerro Toro, and Punta Ventana, the site's three upland areas. The widening of 8.7 kilometers (km) (5.4 miles) of existing roads, siting of 1.4 km (0.87 mile) of new roads, and preparation of construction areas to erect the wind turbines would affect a maximum of 12.2 ha (30.6 acres) of dry forest (4.2 percent of the entire property, and 4.9 percent of the property's dry forest). Incidental to affecting a maximum of 12.2 ha (30.6) the Project would permanently eliminate 1.7 ha (4.3 acres) of nightjar habitat and cause the temporary loss of 10.5 ha (26.3 acres) of nightjar habitat, and may result in harm of 12 nightjar singing territories. The operation of the wind-energy project may result in mortality of one brown pelican every 5 years, and one roseate tern every 20 years. No mortality of nightjars is anticipated from collisions with operating wind turbines.

Under section 9 of the Act and its implementing regulations, “taking” of endangered and threatened wildlife is prohibited. However, the Service, under limited circumstances, may issue permits to take such wildlife, if the taking is incidental to and not the purpose of otherwise lawful activities. The Applicant has developed an HCP as required for their incidental take permit application.

The HCP describes measures the Applicant will take to avoid, minimize and mitigate taking at the Project site. To avoid impacts to nightjars from construction activities the Applicant will clear the vegetation outside of the nightjar nesting season. However, in emergency situations, if vegetation needs to be cleared during the nesting season, the Applicant will use experienced and qualified biologists to search for nightjar nests before any clearing activity is conducted. In the event that nests are found, the Applicant will avoid them by redesigning the road or construction area, or by delaying the activity until the nightjars fledge their young.

To minimize impacts to listed species from construction and operation of the project, the Applicant will:

1. Widen and use 8.7 km (5.4 miles) of existing roads rather than constructing the needed 10.1 km (6.18 miles) of roads along entirely new alignments.

2. Use fewer, larger turbines rather than a greater number of smaller turbines.

3. Clear vegetation using small to midsize bulldozers to scrape the vegetation at the surface and leave the rootstalks intact to encourage regrowth.

4. Paint rotor blades to make them more visible to birds.

5. Establish a predator control program. The Applicant will institute a permanent program to trap mongoose, rats, and feral animals on the site in order to decrease predation pressure on the nightjars, the dry forest lizard (Anolis cooki), and other native animals.

6. Establish roads as fire brakes. The Applicant will maintain access roads to the wind turbines as fire brakes to decrease the threat of fire to the nightjar and its habitat.

7. Implement Avian Power Line Interaction Committee (APLIC) guidelines. The Applicant will bury all electrical transmission lines on the site out to PR-335, where they will run aboveground along existing transmission line poles to the Puerto Rico Electric Power Authority (PREPA) substation.

To mitigate the effects of permanently eliminating 1.7 ha (4.3 acres) of nightjar habitat and causing the temporary loss of 10.5 ha (26.3 acres) that would result in take of 12 nightjar singing male territories, the take of one brown pelican every 5 years, and the take of one roseate tern every 20 years, the Applicant will:

1. Establish a conservation easement on 245 ha (612.5 acres) of the Project site. The Applicant will grant a conservation easement that protects 85 percent of the Project site. The conservation easement will compensate for Project impacts at a rate of approximately 17 acres conserved to 1 acre of direct impact. The easement is being drafted in accordance with a law approved on December 27, 2001, by the Legislature of the Commonwealth of Puerto Rico (Law Number 183, Puerto Rico Conservation Law). The easement will be offered to a qualifying non-profit organization.

2. Restore at least 2.6 ha (6.5 acres) of the 3.1 ha (7.8 acres) of the previous Texaco quarry at the base of Punta Verraco with dry forest vegetation. This activity will restore 21 percent of the dry forest lost due to construction impacts. This restoration will fill in a key habitat gap at the base of the Verraco peninsula, allowing nightjars to establish territories in an area that is presently too fragmented for viable territories to be established. This restoration may allow for two or more additional nightjar territories, once dry forest with good structure has been established.

3. Restore a 10-hectare (25-acre) mangrove area by improving drainage. The Applicant will restore this mangrove area destroyed by the construction of the causeway to Punta Verraco and subsequent silting in of its culverts. This restoration will likely improve foraging resources for the endangered brown pelican and threatened roseate tern.

4. Support brown pelican research. The Applicant will contract with experts and scientists to work with pelican biologists to develop a research program that meets the priorities identified in studies conducted by the Applicant and in the species recovery plan. The Applicant will provide a $100,000 grant to accomplish the actions prioritized in the research program.

5. Establish an environmental education program. The Applicant will educate visitors about renewable energy and the plants and wildlife of southwest Puerto Rico. The Applicant will control site access, schedule visiting hours, and lead visitors on regularly scheduled tours. The Applicant will produce a brochure to be handed out in schools, community centers, and hotels. The Applicant will also finance environmental education projects in surrounding communities. One priority project will be to educate residents and tourists about the marine environment and the measures required to improve its health. This project will focus on the plight of the brown pelican. In addition, the Applicant will provide facilities at the Ventana beach area for local visitors, including an informational kiosk with environmental education materials.

The Service has made a preliminary determination that the ITP is not a major Federal action significantly affecting the quality of the human environment, within the meaning of section 102(2)(C) of NEPA. This preliminary information may be revised due to public comments received in response to this notice, and it is based on information contained in the EA and HCP.

The Service will evaluate the HCP and comments submitted thereon, to determine whether the application meets the issuance criteria requirements of section 10(a)(1)(B) of the Act. By conducting an intra-Service section 7 consultation, the Service will also evaluate whether issuance of the section 10(a)(1)(B) ITP would comply with section 7 of the Act. The results of this consultation, in combination with the above findings, will be used in the final analysis to determine whether or not to issue the ITP for the nightjar, the brown pelican, and the roseate tern.

Dated: December 12, 2005.
Cynthia K. Dohner,
Acting Regional Director, Southeast Region.

[FR Doc. E6-8 Filed 1-5-06; 8:45 am]

BILLING CODE 4310-55-P